DEPARTMENT OF COMMERCE

Foreign-Trade Zones Board

Order No. 1458

Grant Of Authority For Subzone Status, Space Systems/Loral, Inc. (Satellites and Satellite Systems), Palo Alto, Menlo Park and Mountain View, California

Pursuant to its authority under the Foreign-Trade Zones Act, of June 18, 1934, as amended (19 U.S.C. 81a-81u), the Foreign-Trade Zones Board (the Board) adopts the following Order:

Whereas, the Foreign-Trade Zones Act provides for “...the establishment... of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the City of San Jose, California, grantee of Foreign-Trade Zone 18, has made application to the Board for authority to establish a special-purpose subzone at the satellite and satellite systems manufacturing facilities of Space Systems/Loral, Inc., located in Palo Alto, Menlo Park and Mountain View, California (FTZ Docket 25-2005, filed 5/24/05);

Whereas, notice inviting public comment was given in the Federal Register (70 FR 31420-31421, 6/1/05); and,

Whereas, the Board adopts the findings and recommendations of the examiner's report, and finds that the requirements of the FTZ Act and the Board's regulations are satisfied and that approval of the application is in the public interest;

Now, therefore, the Board hereby grants authority for subzone status for activity related to satellite and satellite systems manufacturing at the facilities of Space Systems/Loral, Inc., located in Palo Alto, Menlo Park and Mountain View, California (Subzone 18E), as described in the application and Federal Register notice, and subject to the FTZ Act and the Board's regulations, including § 400.28. It is noted that the granting of FTZ status does not reflect an intent of the FTZ Board to relieve Space Systems/Loral, Inc. of obligations and responsibilities to comply with the Arms Control Export Act, the International Traffic in Arms Regulations and license requirements and orders, thereunder, including the order requiring the company to comply with the Consent Agreement of January 9, 2002.

Signed at Washington, DC, this 16th day of June 2006.

David M. Spooner,
Assistant Secretary of Commerce for Import Administration, Alternate Chairman, Foreign-Trade Zones Board.
Attest:
Pierre V. Duy,
Acting Executive Secretary.

[FR Doc. E6-10222 Filed 6-28-06; 8:45 am]

BILLING CODE 3510-DS-S